DEPARTMENT OF AGRICULTURE

Food and Nutrition Service

Agency Information Collection Activities: Proposed Collection; Comment Request—Food Stamp Program Application, Form FNS-252, Food Stamp Application for Stores

AGENCY: Food and Nutrition Service, USDA.

ACTION: Notice and request for comments.

SUMMARY: USDA's Food and Nutrition Service (FNS) has revised its Food Stamp Program Application for Stores, Form FNS-252 in Fiscal Year (FY) 2004. The form was revised to simplify and streamline information collected from retailers on the application and make it easier to read. The Office of Management and Budget (OMB) granted a one year approval of the use of this form. FNS did not begin to use the new form until the fourth quarter of FY 2004 when the new Store Tracking and Redemption Subsystem (STARS II) became operational. We are soliciting public comments on the content, format and design of the revised Form FNS-252.

As conditions of clearance for the revised retailer application, OMB is requiring that FNS translate the Form FNS-252 into Spanish and have it in active use within the year. OMB is also requiring FNS to track and report on the completion rates for questions 14c, 15b, 16, and 17b. FNS translated the Form FNS-252, into Spanish and is in the process of working with a contractor to post this information on the FNS website. We expect to have the Spanish version of Form FNS-252 in active use by the end of the fourth quarter of FY 2005. FNS is also in the process of tracking the completion rate of those questions identified by OMB, and referenced above. We will report the results upon resubmission to OMB for approval. Finally, a question asking retailers to provide the number of check-out registers that are in the store was omitted from the revised Form FNS-252 in error. FNS needs this information for program management purposes, and it impacts our ability to accurately provide point-of-sale information to third party processors and State contractors. As a result of this finding, FNS intends to add this question to the revised Form FNS-252.

DATES: Written comments must be received on or before October 7, 2005, to be assured of consideration.

ADDRESSES: Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Andrea Gordon, Chief, Retailer Management Branch, Benefit Redemption Division, Food and Nutrition Service, U.S. Department of Agriculture, 3101 Park Center Drive, Room 404, Alexandria, VA 22302; FAX number (703) 305-1863; or via e-mail to: BRDHQ-WEB@fns.usda.gov. All submitted comments should refer to the title of this notice and/or the OMB approval number.

All responses to this notice will be summarized and included in the request for OMB approval. All comments will become a matter of public record.

FOR FURTHER INFORMATION CONTACT: The public can download the English version of Form FNS-252 from the FNS public Web site at: http://www.fns.usda.gov/fsp/retailers/retailer_app/default.htm. Requests for additional information should be directed to Andrea Gordon at (703) 305-2456 or via e-mail at: BRDHQ-WEB@fns.usda.gov. Information requests submitted through email should refer to the title of this notice and/or the OMB approval number in the subject line.

SUPPLEMENTARY INFORMATION: Title: Food Stamp Program: Food Stamp Program Application for Stores, Form FNS-252 (Soliciting Comments from Retailers on the Revised Application).

OMB Number: 0584-0008.

Form Number: FNS-252.

Expiration Date: November 30, 2005.

Type of Request: Revision of a currently approved collection.

Abstract: Section 9 of the Food Stamp Act of 1977, as amended (7 U.S.C. 2018), requires retail food stores to submit applications to FNS for approval prior to participating in the Food Stamp Program (FSP). FNS recently revised Form FNS-252 to make it easier to understand and to streamline the information collected on the application. The revised Form FNS-252 is a significant improvement over the previous Form FNS-252, while adhering to the regulatory requirements for the authorization process for retailers. FNS implemented the revised Form FNS-252 when the new Store Tracking and Redemption Subsystem (STARS II) became operational during the fourth quarter of FY 2004. We know that in the past, many retailers submitted an incomplete or erroneous application to the FNS field office. This can be attributed, in part, to applicants who are purchasing a business and do not have complete inventory or financial records at the time of application to the FSP. The revised Form FNS-252 deleted redundant questions and questions that solicit information that can be collected from other FNS sources such as store visits and databases. It is our belief that the revised application is easier to understand and complete, and has resulted in fewer mistakes upfront. Use of the revised Form FNS-252 also has reduced the time it takes for a field office to process an incomplete or incorrect application. Retailers also benefit from the simplified, revised Form FNS-252 because they better understand what information is being asked of them initially. Additionally, FNS published a 60-day notice in the Federal Register, on January 2, 2003 at 68 FR 79 and again on December 24, 2003 at 68 FR 74546, asking for comments from the public on the revised Forms FNS-252 and Form FNS-252-2 and the newly developed Addendum to Revised Retailer Application for Chain Stores, Form FNS-252-C respectively. We are now seeking comments on the content, design and format of the revised Form FNS-252.

Burden Estimates: As noted above, we will evaluate the revised Form FNS-252 on the appropriateness and clarity of the form's content, format and design. Before making final changes to this form, we will consider feedback from the public. The burden associated with the revised Form FNS-252 is determined from information available in the STARS database on initial authorizations and reauthorizations. For the burden associated with initial authorizations, we have used end-of-year FY 2004 data as the base number for current estimates for the burden associated with adding the one additional question referenced above to the revised Form FNS-252. We believe this number will be constant for the present year. We will use 24,658 as the base number for FY 2005 for all newly authorized stores. For burden estimates associated with applications for reauthorization, we have used FY 2004 data of 30,097 reauthorizations as the base number for FY 2005 estimates because we do not anticipate any radical variation in the number of stores to be reauthorized in the current year. We estimate that 99 percent (24,411) of the 24,658 applications and 3 percent (903) of the 30,097 reauthorizations will be submitted using the Form FNS-252. In our previous submission to OMB, we estimated that it takes a retailer, on average, 19.4 minutes to compete the revised Form FNS-252. For this submission to OMB, we estimate that it will take a retailer an additional five seconds to complete the one additional question referenced above. We estimate the annual burden for the revised Form FNS-252 to be 8,100 hours [25,314 affected retailers (24,411 new authorizations + 903 reauthorizations) × .32 (19.4 minutes)].

The estimated burden computation is provided below:

New Authorizations—24,411 (24,658 × 99%); Reauthorizations—903 (30,097 × 3%);

Total Responses = 25,314 (24,411 + 903)

Estimated Total Annual Burden: FNS-252: 8,100 (25,314 × .32) hour.

Total Annual Hours: 8,100.

Affected Public: Retail food stores.

Estimated Number of Respondents: 25,314.

Estimated Annual Number of Responses per Respondent: 1.

Estimated Total Annual Responses: 25,314.

Estimate of Burden: 8,100.

Dated: July 25, 2005.
Roberto Salazar,
Administrator, Food and Nutrition Service.

[FR Doc. 05-15624 Filed 8-5-05; 8:45 am]

BILLING CODE 3410-30-P